SECURITIES AND EXCHANGE COMMISSION

[File No. 500-1]

Healthsouth Corporation; Order of Suspension of Trading

March 19, 2003.

It appears to the Securities and Exchange Commission that there is a lack of current and accurate information concerning the securities of HealthSouth Corporation (“HealthSouth”) because of questions regarding the accuracy of publicly disseminated information by HealthSouth and others concerning, among other things: (1) The company's earnings and assets, and (2) the company's current financial condition.

The Commission is of the opinion that the public interest and the protection of investors require a suspension of trading in the securities of the above-listed company.

Therefore, it is ordered, pursuant to section 12(k) of the Securities Exchange Act of 1934, that trading in the above-listed company is suspended for the period from 9:30 a.m. E.S.T., March 19, 2003 through 11:59 p.m. E.S.T., on March 20, 2003.

By the Commission.
Margaret H. McFarland,
Deputy Secretary.

[FR Doc. 03-6911 Filed 3-19-03; 11:58 am]

BILLING CODE 8010-01-P